NATIONAL AERONAUTICS AND SPACE ADMINISTRATION

[Notice (06-032)]

Government-Owned Inventions, Available for Licensing

AGENCY: National Aeronautics and Space Administration.

ACTION: Notice of availability of inventions for licensing.

SUMMARY: The inventions listed below assigned to the National Aeronautics and Space Administration, have been filed in the United States Patent and Trademark Office, and are available for licensing.

DATE: May 30, 2006.

FOR FURTHER INFORMATION CONTACT: Kent N. Stone, Patent Counsel, Glenn Research Center at Lewis Field, Code 500-118, Cleveland, OH 44135; telephone (216) 433-8855; fax (216) 433-6790.

NASA Case No. LEW-17484-5: Tracking Of Cells With A Compact Microscope Imaging System Using Intelligent Controls;

NASA Case No. LEW-18054-1: High Work Output Ni-Ti-Pt High Temperature Shape Memory Alloys And Associated Processing Methods;

NASA Case No. LEW-17904-1: Synthesis Of Asymmetric Tetracarboxylic Acids And Corresponding Dianhydrides;

NASA Case No. LEW-17642-2: Energetic Atomic And Ionic Oxygen Textured Optical Surfaces For Blood Glucose Monitoring;

NASA Case No. LEW-17642-3: Energetic Atomic And Ionic Oxygen Textured Optical Surfaces For Blood Glucose Monitoring.

Dated: May 23, 2006.
Keith T. Sefton,
Deputy General Counsel, Administration and Management.

[FR Doc. E6-8268 Filed 5-26-06; 8:45 am]

BILLING CODE 7510-13-P